DEPARTMENT OF ENERGY

Federal Energy Regulatory Commission

[Docket No. ER99-2322.001, et al.]

MEP Investments, LLC, et al.; Electric Rate and Corporate Regulation Filings

May 30, 2002.

The following filings have been made with the Commission. The filings are listed in ascending order within each docket classification.

1. MEP Investments, LLC, MEP Pleasant Hill, LLC, MEP Pleasant Hill Operating, LLC, Pleasant Hill Marketing, LLC, Aquila Merchant Services, Inc.

[Docket Nos. ER99-2322-001, ER99-2858-002, ER01-905-001, ER00-1851-001, ER02-1381-001]

Take notice that on May 24, 2002, MEP Investments, LLC (MEP Investments), MEP Pleasant Hill, LLC (MEP Pleasant Hill), MEP Pleasant Hill Operating, LLC (MEP Operating), Pleasant Hill Marketing, LLC (Pleasant Hill Marketing) and Aquila Merchant Services, Inc. (AMS and collectively, Applicants) jointly tendered for filing with the Federal Energy Regulatory Commission an updated market power analysis. This filing serves as the triennial updated market power analysis in Docket No. ER99-2322-000 for MEP Investments, Docket No. ER99-2858-000 for MEP Pleasant Hill, Docket No. ER01-905-000 for MEP Operating, Docket No. ER00-1851-000 for Pleasant Hill Marketing and Docket No. ER94-216-000 for AMS. In addition, Applicants request the Commission to synchronize their future triennial market power updates.

Comment Date: June 14, 2002.

2. Entergy Services, Inc.

[Docket No. ER02-1069-002]

Take notice that on May 23, 2002, Entergy Services, Inc., on behalf of Entergy Louisiana, Inc., tendered for filing with the Federal Energy Regulatory Commission (Commission), a compliance Amended and Restated Interconnection and Operating Agreement with Washington Parish Energy Center, L.L.C., in response to the Commission's April 23, 2002, order in Entergy Services, Inc., 99 FERC ¶ 61,077 (2002).

Comment Date: June 13, 2002.

3. Southern California Edison Company

[Docket No. ER02-1073-001]

Take notice, that on May 23, 2002, Southern California Edison Company (SCE) submitted for filing a substitute rate sheets for FERC Electric Tariff, Substitute First Revised Original Volume No. 6, Service Agreement No. 11, the Interconnection Facilities Agreement (Interconnection Agreement) between SCE and High Desert Power Trust (HDPT) in compliance with the Commission's letter order rendered in this docket on April 23, 2002.

SCE requests that the revised rate sheets become effective on February 23, 2002. Copies of this filing were served upon the Public Utilities Commission of the State of California, HDPT and High Desert Power Project, LLC.

Comment Date: June 13, 2002.

4. American Electric Power Service Corporation

[Docket No. ER02-1215-002]

Take notice that on May 24, 2002 American Electric Power Service Corporation tendered for filing, on behalf of its affiliated companies including Central Power and Light Company and West Texas Utilities Company, (collectively, AEP), an Interim Qualified Scheduling Entity Service Agreement (Agreement) formatted and designated to comply with Order No. 614.

Copies of the filing have been served on the party to the Agreement as well as on the Public Utility Commission of Texas.

Comment Date: June 14, 2002.

5. PPL Electric Utilities Corporation

[Docket No. ER02-1460-001]

Take notice that on May 23, 2002, PPL Electric Utilities Corporation (PPL Electric) filed a supplement to its April 1, 2002 filing in this docket. The supplement consists of a copy of PPL Electric's Rate Schedule FERC No. 116 designated in accordance with Order No. 614.

PPL Electric states that a copy of this filing has been provided to Metropolitan Edison Company and to the Pennsylvania Public Utility Commission.

Comment Date: June 13, 2002.

6.PPL Electric Utilities Corporation

[Docket No. ER02-1461-001]

Take notice that on May 23, 2002, PPL Electric Utilities Corporation (PPL Electric) filed a supplement to its April 1, 2002 filing in this docket. The supplement consists of a copy of PPL Electric's Rate Schedule FERC No. 116 designated in accordance with Order No. 614.

PPL Electric states that a copy of this filing has been provided to Metropolitan Edison Company and to the Pennsylvania Public Utility Commission.

Comment Date: June 13, 2002.

7. PPL Electric Utilities Corporation

[Docket No. ER02-1462-001]

Take notice that on May 23, 2002, PPL Electric Utilities Corporation (PPL Electric) filed a supplement to its April 1, 2002 filing in this docket. The supplement consists of a copy of PPL Electric's Rate Schedule FERC No. 117 designated in accordance with Order No. 614.

PPL Electric states that a copy of this filing has been provided to Pennsylvania Electric Company and to the Pennsylvania Public Utility Commission.

Comment Date: June 13, 2002.

8. PPL Electric Utilities Corporation

[Docket No. ER02-1867-000]

Take notice that on May 22, 2002, PPL Electric Utilities Corporation (PPL Electric Utilities) tendered for filing an Interconnection Agreement between PPL Electric Utilities and RR Donnelley & Sons Company.

Comment Date: June 12, 2002.

9. PPL Electric Utilities Corporation

[Docket No. ER02-1868-000]

Take notice that on May 22, 2002, PPL Electric Utilities Corporation (PPL Electric Utilities) tendered for filing an Interconnection Agreement between PPL Electric Utilities and Conectiv Bethlehem, Inc.

Comment Date: June 12, 2002.

10. Consumers Energy Company

[Docket No. ER02-1869-000]

Take notice that on May 22, 2002 Consumers Energy Company (Consumers) tendered for filing a Service Agreement with American Electric Power Service Corporation, (Customer) under Consumers' FERC Electric Tariff No. 9 for Market Based Sales.

Consumers requested that the Agreement be allowed to become effective as of May 1, 2002. Copies of the filing were served upon the Customer and the Michigan Public Service Commission.

Comment Date: June 12, 2002.

11. PJM Interconnection, L.L.C.

[Docket No. ES02-41-000]

Take notice that on May 22, 2002, PJM Interconnection, L.L.C., submitted an application pursuant to section 204 of the Federal Power Act seeking authorization issue a secured promissory note in the amount of $75 million for a term credit facility and an unsecured promissory note in an amount of up to $15 million for revolving line of credit.

Comment Date: June 20, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-14412 Filed 6-7-02; 8:45 am]

BILLING CODE 6717-01-P